ENVIRONMENTAL PROTECTION AGENCY

[FRL-6884-1]

Comprehensive Environmental Response, Compensation and Liability Act (CERCLA) or Superfund, Section 104; “Announcement of Proposal Deadline for the Competition for the FY 2001 Brownfields Cleanup Revolving Loan Fund Pilots”

AGENCY: Environmental Protection Agency.

ACTION: Notice of proposal deadlines, revised guidelines.

SUMMARY: The United States Environmental Protection Agency (EPA) will begin to accept proposals for the FY 2001 Brownfields Cleanup Revolving Loan Fund Pilots on October 11, 2000. The Brownfields Cleanup Revolving Loan Fund pilots (each may be funded up to $1,000,000) to test cleanup and redevelopment planning models, direct special efforts toward removing regulatory barriers without sacrificing protectiveness, and facilitate coordinated public and private environmental cleanup and redevelopment efforts. EPA expects to select up to 35 additional Brownfields Cleanup Revolving Loan Fund pilots by March 2001. The deadline for new proposals for the FY 2000 Brownfields Cleanup Revolving Loan Fund pilots is December 18, 2000. Proposals must be postmarked by the U.S. Postal Service (USPS) by December 18, 2000, and sent to U.S. EPA Headquarters. In addition, duplicate copies of the proposal must also be submitted to the appropriate U.S. EPA Regional Office, ATTN: Brownfields Cleanup Revolving Loan Fund Coordinator.

The Brownfields Cleanup Revolving Loan Fund pilot proposals are selected on a competitive basis. To ensure a fair selection process, evaluation panels consisting of EPA Regional and Headquarters staff and other federal agency representatives will assess how well the proposals meet the selection criteria outlined in the newly revised guidelines, entitled The Brownfields Economic Redevelopment Initiative: Proposal Guidelines for Brownfields Cleanup Revolving Loan Fund (September 2000).

DATES: All proposals must be postmarked by USPS or sent to U.S. EPA Headquarters and a duplicate copy sent to the appropriate U.S. EPA Regional Office via registered or tracked mail no later than December 18, 2000.

ADDRESSES: BCRLF guidelines can be obtained by calling the Superfund Hotline at the following numbers:

Washington, DC Metro Area at 703-412-9810

Outside Washington, DC Metro at 1-800-424-9346

TDD for the Hearing Impaired at 1-800-553-7672

Copies of the Proposal Guidelines for Brownfields Cleanup Revolving Loan Fund are available via the Internet: http://www.epa.gov/brownfields/

FOR FURTHER INFORMATION CONTACT: The U.S. EPA's Office of Solid Waste and Emergency Response, Outreach and Special Projects Staff, Barbara Bassuener (202) 260-9347 or Jennifer Millett Wilbur (202) 260-6454.

SUPPLEMENTARY INFORMATION: The Environmental Protection Agency's (EPA) Brownfields Economic Redevelopment Initiative is designed to empower states, local governments, communities, and other stakeholders involved in economic redevelopment to work together in a timely manner to prevent, assess, and safely cleanup brownfields in order to facilitate their sustainable reuse. As part of this Initiative, EPA has awarded cooperative agreements to States, political subdivisions (including cities, towns, counties), and Indian tribes to capitalize Brownfields Cleanup Revolving Loan Fund pilots. The purpose of these pilots is to test brownfields cleanup revolving loan fund models that direct special efforts toward facilitating coordinated public and private brownfields cleanup efforts.

In FY 2001, the EPA expects to select up to 35 new BCRLF pilots to be funded up to $1,000,000 per eligible entity by the end of March 2001.

Eligible entities for FY 2001 BCRLF pilots will be states, political subdivisions, or federally recognized Indian Tribes that have established and can demonstrate progress already made in the assessment, cleanup and revitalization of brownfields in their community, State or Tribe.

Coalitions of eligible entities are permitted to apply, but a single entity must be identified as the applicant. Additionally, a letter of support from each coalition member must be included as an attachment.

Applicants must demonstrate through their proposal: (1) an existing commitment to brownfields; (2) an ability to manage a revolving loan fund and environmental cleanups; (3) a need for cleanup funds; (4) commitment to making loans and to creative leveraging of EPA funds with public-private partnerships and in-kind services (matching funds are not required); and (5) a clear plan for sustaining the environmental protection and related economic development activities initiated through the BCRLF program. The eligible entities must meet EPA's threshold and evaluation criteria. There is no guarantee of an award. Also, the size of the awards may vary (for example, from $350,000 to $1,000,000 per eligible entity), depending on the proposal's responses to the evaluation criteria.

Funding for the Brownfields Cleanup Revolving Loan Fund pilots is authorized under Section 104(d)(1) of the Comprehensive Environmental Response, Compensation, and Liability Act of 1980, as amended, (CERCLA or Superfund), 42 U.S.C. 9604(d)(1).

The Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A Major rule cannot take effect until 60 days after it is published in the Federal Register. This action is not a “major rule” as defined by 5 U.S.C. 804(2). This rule will be effective on October 11, 2000.

Dated: October 3, 2000.
Linda Garczynski,
Director, Outreach and Special Projects Staff, Office of Solid Waste and Emergency Response.

[FR Doc. 00-26066 Filed 10-10-00; 8:45 am]

BILLING CODE 6560-50-P